DEPARTMENT OF COMMERCE

International Trade Administration

[A-423-808, A-580-831, A-791-805, A-583-830, C-791-806]

Continuation of Antidumping and Countervailing Duty Orders: Stainless Steel Plate in Coils From Belgium, the Republic of Korea, South Africa, and Taiwan

AGENCY: Import Administration, International Trade Administration, Department of Commerce.

SUMMARY: As a result of the determinations by the Department of Commerce (the Department) that revocation of the antidumping duty (AD) orders on stainless steel plate in coils (SSPC) from Belgium, the Republic of Korea (Korea), South Africa, and Taiwan would likely lead to continuation or recurrence of dumping, that revocation of the countervailing duty (CVD) order on SSPC from South Africa would likely lead to continuation or recurrence of a countervailable subsidy, and the determinations by the International Trade Commission (ITC) that revocation of these AD and CVD orders would likely lead to a continuation or recurrence of material injury to an industry in the United States, the Department is publishing a notice of continuation of these AD orders and CVD order.

DATES: Effective Date: August 30, 2011.

FOR FURTHER INFORMATION CONTACT: Elizabeth Eastwood (AD orders) or Eric Greynolds (CVD order), AD/CVD Operations, Import Administration, International Trade Administration, U.S. Department of Commerce, 14th Street and Constitution Avenue, NW., Washington, DC 20230; telephone: (202) 482-3874 and (202) 482-6071, respectively.

SUPPLEMENTARY INFORMATION:

Background

On June 2, 2010, the Department published the notice of initiation of the second sunset reviews of the AD and CVD orders on SSPC from Belgium, Italy, Korea, South Africa, and Taiwan pursuant to sections 751(c) and 752 of the Tariff Act of 1930, as amended (the Act), respectively. See Initiation of Five-Year (“Sunset”) Review, 75 FR 30777 (June 2, 2010).

As a result of its reviews, the Department determined that revocation of the AD orders would likely lead to a continuation or recurrence of dumping and that revocation of the CVD order would likely lead to continuation or recurrence of subsidization, and notified the ITC of the margins of dumping and the subsidy rates likely to prevail were the orders revoked. See Stainless Steel Plate in Coils From Belgium, Italy, South Africa, South Korea, and Taiwan: Final Results of the Expedited Sunset Reviews of the Antidumping Duty Orders, 75 FR 61699 (Oct. 6, 2010); see also Stainless Steel Plate in Coils From South Africa: Final Results of Expedited Sunset Review, 75 FR 62103 (Oct. 7, 2010).

On August 15, 2011, the ITC published its determination, pursuant to sections 751(c) and 752 of the Act, that revocation of the AD and CVD orders on SSPC from Belgium, Korea, South Africa, and Taiwan, would likely lead to a continuation or recurrence of material injury to an industry within a reasonably foreseeable time.¹ See Stainless Steel Plate From Belgium, Italy, Korea, South Africa, and Taiwan, 76 FR 50495 (Aug. 15, 2011), and Stainless Steel Plate in Coils from Belgium, Italy, Korea, South Africa, and Taiwan (Inv. Nos. 701-TA-379 and 731-TA-788, 790-793 (Second Review), USITC Publication 4248, Aug. 2011).

¹ The ITC also determined that revocation of the AD order on SSPC from Italy would not be likely to lead to continuation or recurrence of material injury to an industry in the United States within a reasonably foreseeable time.

Scope of the Orders

Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of the orders are the following: (1) Plate not in coils, (2) plate that is not annealed or otherwise heat treated and pickled or otherwise descaled, (3) sheet and strip, and (4) flat bars.

The merchandise subject to the orders is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Continuation of the Orders

As a result of the determinations by the Department and the ITC that revocation of these AD and CVD orders would likely lead to a continuation or recurrence of dumping or a countervailable subsidy, and material injury to an industry in the United States, pursuant to section 751(d)(2) of the Act, the Department hereby orders the continuation of the AD and CVD orders on SSPC from Belgium, Korea, South Africa, and Taiwan. U.S. Customs and Border Protection will continue to collect antidumping duty cash deposits at the rates in effect at the time of entry for all imports of subject merchandise.

The effective date of the continuation of the orders will be the date of publication in the Federal Register of this notice of continuation. Pursuant to sections 751(c)(2) and 751(c)(6) of the Act, the Department intends to initiate the next five-year review of these orders not later than 30 days prior to the fifth anniversary of the effective date of continuation.

These five-year (sunset) reviews and this notice are in accordance with section 751(c) of the Act and published pursuant to section 777(i)(1) of the Act.

Dated: August 24, 2011.
Ronald K. Lorentzen,
Deputy Assistant Secretary for Import Administration.

[FR Doc. 2011-22151 Filed 8-29-11; 8:45 am]

BILLING CODE 3510-DS-P